DEPARTMENT OF ENERGY

Federal Energy Regulatory Commission

[Docket No. RP02-356-000]

Canyon Creek Compression Company; Notice of Proposed Changes in FERC Gas Tariff

June 6, 2002.

Take notice that on May 31, 2002, Canyon Creek Compression Company (Canyon) tendered for filing as part of its FERC Gas Tariff, Third Revised Volume No. 1, certain tariff sheets to be effective July 1, 2002. Assuming the ordinary suspension period, these sheets will become effective December 1, 2002.

Canyon states that the purpose of this filing is to implement a general rate increase. Canyon is submitting two alternative cases. The primary case includes a cost-of-service tracking mechanism. The alternate case, a more traditional rate derivation, results in higher rates than the initial rates under the primary case. While both cases represent a rate increase, both also incorporate a decrease in cost of service from that underlying Canyon's currently effective rates. Canyon has also proposed other tariff changes, including elimination of provisions for crediting interruptible revenue.

Canyon requests waivers of the Commission's Regulations to the extent necessary to permit these tariff sheets to become effective. The requested effective date is July 1, 2002. Assuming the ordinary suspension period, the revised rates and tariffs will become effective December 1, 2002. Canyon has requested that the Commission make effective the tariff sheets setting out the primary case. In the event the Commission does not accept the cost-of-service tracker, Canyon asks that the tariff sheets for the alternate case be made effective.

Canyon states that copies of the filing are being mailed to its customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the

Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14893 Filed 6-12-02; 8:45 am]

BILLING CODE 6717-01-P